DEPARTMENT OF COMMERCE

National Oceanic and Atmospheric Administration

[I.D. 071101D]

Caribbean Fishery Management Council; Public Meetings

AGENCY: National Marine Fisheries Service (NMFS), National Oceanic and Atmospheric Administration (NOAA), Commerce.

ACTION: Notice of Public Meetings.

SUMMARY: The Caribbean Fishery Management Council’s (Council) Advisory Panel (AP), and the Scientific and Statistical Committee (SSC) will hold meetings.

DATES: The AP meeting will convene on Wednesday, August 8, 2001, from 10 a.m. until 4 p.m., and the SSC meeting will convene on Thursday, August 9, 2001, from 10 a.m. to 4 p.m.

ADDRESSES: All meetings will be held at the Embassy Suites Hotel, 8000 Tartak St., Isla Verde, Carolina, Puerto Rico.

FOR FURTHER INFORMATION CONTACT: Caribbean Fishery Management Council, 268 Muñoz Rivera Avenue, Suite 1108, San Juan, Puerto Rico 00918-2577; telephone: (787) 766-5926.

SUPPLEMENTARY INFORMATION: The AP, and SSC will meet to discuss the items contained in the following agenda:

AP Meeting

Amendment to the Reeffish Fishery Management Plan (FMP)

Sustainable Fisheries Act (SFA)

Other Business

SSC Meeting

Amendment to the Reeffish FMP

SFA

Other Business

The meetings are open to the public, and will be conducted in English. However, simultaneous interpretation (Spanish-English) will be available during the AP meeting (August 8, 2001). Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. For more information or request for sign language interpretation and/other auxiliary aids, please contact Mr. Miguel A. Rolón, Executive Director, Caribbean Fishery Management Council, (see FOR FURTHER INFORMATION CONTACT) at least 5 days prior to the meeting date.

Dated: July 13, 2001.
Richard W. Surdi,
Acting Director, Office of Sustainable Fisheries, National Marine Fisheries Service.

[FR Doc. 01-18413 Filed 7-23-01; 8:45 am]

BILLING CODE 3510-22-S